DEPARTMENT OF COMMERCE

National Oceanic and Atmospheric Administration

RIN 0648-XB091

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Oversight Committee to consider actions affecting New England fisheries in the exclusive economic zone (EEZ). Recommendations from this group will be brought to the full Council for formal consideration and action, if appropriate.

DATES: This meeting will be held on Thursday, April 5, 2012 at 9 a.m.

ADDRESSES: The meeting will be held at the Hotel Providence, 139 Mathewson Street, Providence, RI 02903; telephone: (401) 861-8000; fax: (401) 454-4306.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will begin developing specific measures for Framework 24. This action is primarily setting specifications for fishing years 2013 and 2014. At this meeting the Committee will primarily work on other measures that will be considered in this action in addition to specifications. Specifically, (1) possible modification of Georges Bank access area opening dates; (2) consider measures to address sub-ACL of yellowtail flounder for the LAGC trawl fishery; (3) consider modifying the effective date of YT sub-ACL AMs from Year 2 to Year 3; (4) leasing LAGC IFQ mid-year; and 5) expanding the observer set-aside program to include LAGC open area trips. The Committee will make recommendations for research priorities for the 2013 and 2014 Research Set-Aside program. If time permits, the Committee may review and provide input on a draft outline for a Performance Evaluation of the LAGC IFQ program to date. In addition, there will be a presentation from the Northeast Fisheries Science Center (NEFSC) on future plans for the federal scallop survey and how results will be integrated with existing survey methods. The Committee may discuss other business.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: March 15, 2012.
Tracey L. Thompson,
Acting Director, Office of Sustainable Fisheries, National Marine Fisheries Service.

[FR Doc. 2012-6677 Filed 3-19-12; 8:45 am]

BILLING CODE 3510-22-P